Title 3—

The President

Proclamation 7510 of November 30, 2001

World Aids Day, 2001

By the President of the United States of America

A Proclamation

This year marks the 20th year that the world has been fighting the disease that we now know as Acquired Immunodeficiency Syndrome (AIDS). AIDS has inflicted a terrible toll upon the world, taking millions of lives and causing untold grief to the families and friends of its victims. An estimated 40 million people worldwide are living with the Human Immunodeficiency Virus (HIV), which causes AIDS; and more than 8,000 people across the globe die from AIDS every day. Sadly, since its inception, AIDS has claimed the lives of more than 22 million individuals.

This year's World AIDS Day theme is “I Care . . . Do You? Youth and AIDS in the 21st Century.” The goal underscoring this year's theme is ensuring greater education and involvement of young people in preventing HIV/AIDS. And it seeks to stress that every individual has both the responsibility and the opportunity to help prevent the spread of HIV/AIDS and to assist those suffering from the disease.

In many countries, including the United States, young people and adolescents are at a higher risk for contracting HIV infection. We know from epidemiological data that young people under the age of 25 comprise half of all new HIV infections worldwide. This sobering reality is a clarion call to public health networks around the world to redouble their efforts in providing information to young people about preventing HIV/AIDS, and most importantly, about abstinence and how it can help to prevent the spread of this disease.

The AIDS epidemic has had a devastating impact on diverse communities, and disadvantaged youth have borne the brunt of this devastation. Impoverished conditions and depressed economic circumstances tend to accompany an increased presence of HIV in these communities. We must develop and implement better ways to communicate to youth about abstinence and other effective measures that will help them to avoid the disease and to envision a future filled with possibility.

We must also continue our efforts to develop a vaccine that will protect individuals from becoming infected with HIV. Our children deserve to live in a world free from the fear of HIV/AIDS, and the United States will not weaken in its resolve to lead the world towards that goal.

As we enter the third decade of the AIDS pandemic, our hearts go out to those who have been afflicted with or affected by this deadly disease. We resolve to stand together as a Nation and with the world to fight AIDS on all fronts. We resolve to provide the resources necessary to combat HIV/AIDS. And we resolve to ensure that those suffering with HIV/AIDS receive effective care and treatment, compassionate understanding, and encouraging hope.

NOW, THEREFORE, I, GEORGE W. BUSH, President of the United States of America, by virtue of the authority vested in me by the Constitution and laws of the United States, do hereby proclaim December 1, 2001, as World AIDS Day. I invite the Governors of the States and the Commonwealth of Puerto Rico, officials of the other territories subject to the jurisdiction of the United States, and the American people to join me in reaffirming our commitment to combat HIV/AIDS. I encourage every American to participate in appropriate commemorative programs and ceremonies in workplaces, houses of worship, and other community centers to reach out and protect and educate our children, and to help comfort all people who are living with HIV and AIDS.

IN WITNESS WHEREOF, I have hereunto set my hand this thirtieth day of November, in the year of our Lord two thousand one, and of the Independence of the United States of America the two hundred and twenty-sixth.

B

[FR Doc. 01-30279

Filed 12-4-01; 8:45 am]

Billing code 3195-01-P